DEPARTMENT OF VETERANS AFFAIRS

Commission on Care; Notice of Meeting

In accordance with the Federal Advisory Committee Act, 5 U.S.C., App. 2, the Commission on Care gives notice that it will meet on Monday, December 14, 2015, Tuesday, December 15, 2015, and Wednesday, December 16, 2015 at the J.W. Marriott, Jr. ASAE Conference Center, 1575 I St. NW., Washington, DC 20005. The meeting will convene at 8:30 a.m. and end at 12:30 p.m. on all days. The meeting is open to the public.

The purpose of the Commission, as described in section 202 of the Veterans Access, Choice, and Accountability Act of 2014, is to examine the access of veterans to health care from the Department of Veterans Affairs and strategically examine how best to organize the Veterans Health Administration, locate health care resources, and deliver health care to veterans during the next 20 years.

On the mornings of December 14, 15, and 16, the Commission will hear from experts who will provide insights on work to be done by the Commission. On the afternoons of December 14, 15, and 16, the Commission will convene closed sessions in accordance with The Government in the Sunshine Act, 5 U.S.C. 552b (c)(2) and (c)(9)(B), or to conduct administrative work.

No time will be allocated at this meeting for receiving oral presentations from the public. The public may submit written statements for the Commission's review to Sharon Gilles or John Goodrich, Designated Federal Officers, Commission on Care, at sharon.gilles@va.gov or john.goodrich@va.gov, respectively. Any member of the public wanting to attend may contact Ms. Gilles or Mr. Goodrich.

Dated: November 20, 2015.
Sharon Gilles,
Designated Federal Officer, Commission on Care.

[FR Doc. 2015-30072 Filed 11-25-15; 8:45 am]

BILLING CODE 8320-01-P